ENVIRONMENTAL PROTECTION AGENCY

[FRL-8522-9]

Science Advisory Board Staff Office, SAB Particulate Matter (PM) Research Centers Program Review Panel; Request for Nominations

AGENCY: Environmental Protection Agency (EPA).

ACTION: Notice.

SUMMARY: The U.S. Environmental Protection Agency (EPA or Agency) Science Advisory Board (SAB) Staff Office is announcing the formation of an SAB panel to advise the Agency concerning the future direction of its Particulate Matter (PM) Research Centers Program. The SAB Staff Office is soliciting public nominations for this Panel.

DATES: New nominations should be submitted by February 21, 2008.

FOR FURTHER INFORMATION CONTACT: Any member of the public wishing further information regarding this Request for Nominations may contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the EPA Science Advisory Board can be found on the EPA Web Site: http://www.epa.gov/sab.

SUPPLEMENTARY INFORMATION:

Background: The SAB was established by 42 U.S.C. 4365 to provide independent scientific and technical advice to the Administrator on the technical basis for Agency positions and regulations. The SAB is a Federal advisory Committee chartered under the Federal Advisory Committee Act (FACA), as amended, 5 U.S.C., App. The SAB will comply with the provisions of FACA and all appropriate SAB Staff Office procedural policies.

In EPA's 1998 appropriations bill, Congress directed EPA to establish as many as five university-based particulate matter (PM) research centers as part of the expanded Office of Research and Development (ORD) PM research program. The first research centers were funded from 1999 to 2005. The total budget for each center over five years was $8 million, for a program total of $40 million. In the original Request for Applications (RFA), prospective Centers were asked to propose an integrated research program on the health effects of PM, including exposure, dosimetry, toxicology and epidemiology. In 2004, a second competition was held. This RFA asked respondents to address the central theme of “linking health effects to PM sources and components,” and to focus on the research priorities of susceptibility, biological mechanisms, exposure-response relationships, and source linkages. From the second competition, five current centers are funded for 2005-2010 (the budget remains $40 million total).

ORD's PM Research Centers program was initially shaped by recommendations from the National Research Council. The SAB conducted an interim review of the Centers program in 2002 (see: http://yosemite.epa.gov/sab/sabproduct.nsf/6374FD2B32EFE730852570CA007415FE/$File/ec02008.pdf), which was instrumental in providing additional guidance for the second phase of the program (2005-2010). The Agency now seeks the advice of an SAB expert panel on the structure and strategic direction for the program as ORD contemplates funding a third round of air pollution research centers into the future. This Federal Register notice solicitation is seeking nominations for the SAB PM Research Centers Program Review Panel.

Request for Nominations: The SAB Staff Office is requesting nominations for nationally- and internationally-recognized, non-EPA scientists with extensive research program management expertise and experience related to airborne pollution and the application of research results in reducing air pollution in protection human health and the environment. The experts should also have had direct research experience related to PM.

Process and Deadline for Submitting Nominations: Any interested person or organization may nominate qualified individuals to add expertise to the SAB PM Research Centers Program Review Panel in the areas of expertise listed above. Nominations should be submitted in electronic format through the SAB Web site: http://yosemite.epa.gov/sab/sabproduct.nsf/Web/participatepanelformation?OpenDocument. Please follow the instructions for submitting nominations carefully. To be considered, nominations should include all of the information required on the associated forms. Anyone unable to submit nominations using the electronic form and who has any questions concerning the nomination process may contact Mr. Fred Butterfield, DFO, as indicated above in this notice. Nominations should be submitted in time to arrive no later than February 21, 2008.

To be considered, all nominations should include: A current curriculum vitae (C.V.) which provides the nominee's background, qualifications, research expertise and relevant publications for service on the Panel; and a brief biographical sketch (“biosketch”). The biosketch should be no longer than one page and should contain the following information for the nominee:

(a) Current professional affiliations and positions held;

(b) Area(s) of expertise, and research activities and interests relevant to the Panel;

(c) Leadership positions in national associations or professional publications or other significant distinctions;

(d) Educational background, especially advanced degrees, including when and from which institutions these were granted; and

(e) Service on other advisory committees or professional societies, especially those associated with issues under discussion in this review.

Incomplete biosketches will not be considered. The EPA SAB Staff Office will acknowledge receipt of nominations.

The EPA SAB Staff Office will post the biosketches of qualified nominees for public comment on the SAB Web site. Information will be made available via the link to this panel found at: http://yosemite.epa.gov/sab/sabproduct.nsf/WebBoard/SABAdHocCommitteesandPanels?OpenDocument, and will include, for each candidate, the nominee's name and their biosketch. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the final SAB PM Research Centers Program Review Panel, the SAB Staff Office will consider public comments on the “Short List” of candidates, information provided by the candidates themselves, and background information independently gathered by the SAB Staff Office. Specific criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following SAB Web site: http://yosemite.epa.gov/sab/sabproduct.nsf/Web/Ethics?OpenDocument.

The approved policy under which the EPA SAB Office selects subcommittees and review panels is described in the following document: Overview of the Panel Formation Process at the Environmental Protection Agency Science Advisory Board (EPA-SAB-EC-02-010, September 2002), which is posted on the SAB Web site: http://yosemite.epa.gov/sab/sabproduct.nsf/WebSABSO/OverviewPanelForm?OpenDocument.

Dated: January 25, 2008.
Anthony Maciorowski,
Deputy Director, EPA Science Advisory Board Staff Office.

[FR Doc. E8-1774 Filed 1-30-08; 8:45 am]

BILLING CODE 6560-50-P